FEDERAL COMMUNICATIONS COMMISSION

Notice of Public Information Collection(s) being Reviewed by the Federal Communications Commission

December 19, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 1, 2002. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0519.

Title: Rules and Regulations Implementing the Telephone Consumer Protection Act of 1991 (CC Docket No. 92-06).

Form No.: N/A.

Type of Review: Extension of a currently approved collection.

Respondents: Businesses or other for-profit.

Number of Respondents: 30,000.

Estimated Time Per Response: 31.2 hours per response (avg.).

Frequency of Response: Recordkeeping requirement, third party disclosure requirement, on occasion reporting requirement.

Total Annual Burden: 936,000 hours.

Total Annual Cost: N/A.

Needs and Uses: Parts 64 and 68 of the Commission's rules contain procedures for avoiding unwanted telephone solicitations to residences, and to regulate the use of automatic telephone dialing systems, artificial or pre-recorded voice messages, and telephone facsimile machines. The Commission believes that the recordkeeping requirement is the best means of preventing unwanted telephone solicitations.

OMB Control No.: 3060-0837.

Title: Application for DTV Broadcast Station License.

Form No.: FCC Form 302-DTV.

Type of Review: Extension of a currently approved collection.

Respondents: Businesses or other for-profit, not-for-profit institutions.

Number of Respondents: 600.

Estimated Time Per Response: 1.5-6 hours per response (avg.).

Frequency of Response: On occasion reporting requirement.

Total Annual Burden: 950 hours.

Total Annual Cost: $245,000.

Needs and Uses: FCC Form 302-DTV is used by licensees and permittees of DTV broadcast stations to obtain a new or modified station license, and/or to notify the Commission of certain changes in the licensed facilities. The data is used by FCC staff to confirm that the station has been built to terms specified in the outstanding construction permit and to ensure that any changes to the station's authorized facilities, made without prior Commission approval, will not have any impact on other stations and the public. Data is extracted from FCC 302-DTV for inclusion in the license to operate the station.

Federal Communications Commission.
Magalie Roman Salas,
Secretary.

[FR Doc. 01-32249 Filed 12-31-01; 8:45 am]

BILLING CODE 6712-01-P